DEPARTMENT OF HOUSING AND URBAN DEVELOPMENT

[Docket No. FR-5879-N-01]

The Third United Nations Conference on Housing and Sustainable Urban Development, Solicitation of Expressions of Interest From Technical Experts and Organizations to Co-Lead Policy Units

AGENCY: Office of the Assistant Secretary for Policy Development and Research, HUD.

ACTION: Notice.

SUMMARY: The Third United Nations Conference on Housing and Sustainable Urban Development (referred to as Habitat III) will be held in Quito, Ecuador, from October 17 through 20, 2016. HUD, in coordination with the U.S. Department of State and other Federal agencies, is leading the United States' preparatory efforts for Habitat III. As part of the preparatory process, the Secretary-General of Habitat III is seeking technical experts to serve as members of 10 policy units to co-lead those policy units. This notice seeks expressions of interest from technical experts who meet the criteria described in this notice, and from organizations wishing to co-lead policy units. Expressions of interest should be submitted to Leopold.E.Wetula@hud.gov.

DATES: Expressions of interest will be solicited through June 11, 2015.

FOR FURTHER INFORMATION CONTACT: Leo Wetula, Office of International and Philanthropic Innovation, Office of Policy Development and Research, Department of Housing and Urban Development, 4517th Street SW., Washington, DC 20410; telephone (202) 402-6970 (this is not a toll-free number). Persons with hearing or speech impairments may access this number through TTY by calling the toll-free Federal Relay Service at 800-877-8339.

SUPPLEMENTARY INFORMATION:

I. Background

The United Nations General Assembly decided to convene the Habitat III Conference to reinvigorate the global commitment to sustainable urbanization, to focus on the implementation of a “New Urban Agenda”, building on the Habitat Agenda of Istanbul in 1996. Member States of the General Assembly decided that the objectives of the Conference are to secure renewed political commitment for sustainable urban development, assess accomplishments to date, address poverty, and identify and address new and emerging challenges. The expectation is that the conference will result in a concise, focused, forward-looking and action-oriented outcome document. Habitat III will be one of the first United Nations global summits after the adoption of the Post-2015 Development Agenda and offers a unique opportunity to discuss the important challenge of how cities, towns, and villages are planned and managed, in order to fulfill their role as drivers of sustainable development.¹

¹ See http://unhabitat.org/habitat-iii/.

As noted in the Summary of this notice, HUD, in coordination with the U.S. Department of State and other Federal agencies, is leading the United States' preparatory efforts for Habitat III. Part of this preparatory effort is to help identify technical experts to serve as members of 10 policy units to co-lead those policy units. Policy units refer to groups of individual experts from a variety of fields, including academia, government, civil society and other regional and international bodies, and are charged with identifying challenges, policy priorities, and critical issues as well as develop action-oriented recommendations for the implementation of the New Urban Agenda. The issues to be addressed by each policy unit will serve as technical inputs for Member States' consideration in the preparation of the outcome document of the Conference.

For Habitat III, the Conference plans to establish 10 policy units that will be composed of 20 technical experts, including participants from academia, government, civil society and other regional and international bodies, ensuring diversity and geographical representation. Each policy unit will be co-led by two organizations. A list and descriptions of the policy units can be found on the Habitat III Web site.²

² See http://unhabitat.org/wp-content/uploads/2015/04/Habitat-III-Issue-Papers-and-Policy-Units_11-April.pdf.

II. Solicitation of Interests

A. Solicitation of Interests From Technical Experts

On behalf of Habitat III, HUD is soliciting expressions of interest from qualified technical experts, whose names will be forward to Habitat III for consideration for appointment to one of the policy units. The general selection criteria, as established by Habitat III, cover the following three broad categories:

• Demonstrable Competence;

• Geographical Balance; and

• Gender Balance.

More information on the selection process can be found in Habitat III's Annex I (Selection Process and Criteria). Other information on serving as a technical expert, including duties and responsibilities, can be found in Habitat III's Annex II (Terms of Reference for Experts). Requests for copies of these annexes should be sent to Leopold.E.Wetula@hud.gov.

B. Solicitation of Organizations Seeking To Co-Lead Policy Units

On behalf of Habitat III, HUD is also soliciting expressions of interest from organizations wishing to co-lead the 10 policy units. Each policy unit will be co-led by two organizations appointed by the Secretary General of the Conference. Information on selection criteria for co-leading organizations can be found in Habitat III's Annex I and Annex III (Terms of Reference for Co-leading Organizations. Again, requests for copies of these annexes should be sent to Leopold.E.Wetula@hud.gov.

All expressions of interest to serve as co-leading organizations should provide basic contact information, and should identify the policy unit or units of which the organization is interested in co-leading.

C. Selection of Technical Experts and Co-Leading Organizations

The Secretary General of Habitat III will make all decisions regarding the appointment of technical experts to policy units and the selection of co-leading organizations.

Dated: June 3, 2015.
Salin G. Geervarghese,
Deputy Assistant Secretary for International and Philanthropic Innovation.

[FR Doc. 2015-14035 Filed 6-8-15; 8:45 a.m.]

BILLING CODE 4210-67-P